COMMITTEE FOR PURCHASE FROM PEOPLE WHO ARE BLIND OR SEVERELY DISABLED

Procurement List Proposed Additions and Deletions

AGENCY: Committee for Purchase from People Who Are Blind or Severely Disabled.

ACTION: Proposed Additions to and Deletions from Procurement List.

SUMMARY: The Committee is proposing to add to the Procurement List products and a service to be furnished by nonprofit agencies employing persons who are blind or have other severe disabilities, and to delete products previously furnished by such agencies.

Comments Must be Received on or Before: July 30, 2006.

ADDRESSES: Committee for Purchase From People Who Are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and a service to the Government.

3. There are no known regulatory alternatives which would accomplish the objectives of the Javits-Wagner-O'Day Act (41 U.S.C. 46-48c) in connection with the products and a service proposed for addition to the Procurement List.

Comments on this certification are invited. Commenters should identify the statement(s) underlying the certification on which they are providing additional information.

End of Certification

The following products and service are proposed for addition to Procurement List for production by the nonprofit agencies listed:

Products

Product/NSNs: Coat, Airman's Battle Uniform, Men's (ABU)

8415-01-536-4578—Size 42 X-Short

8415-01-536-4224—Size 36 Regular

8415-01-536-4188—Size 34 Regular

8415-01-536-4182—Size 34 X-Short

8415-01-536-4193—Size 36 X-Short

8415-01-536-4192—Size 34 X-Long

8415-00-NIB-0493—Size 48 X-Long

8415-01-536-4227—Size 36 Long

8415-01-536-4585—Size 42 X-Long

8415-01-536-4583—Size 42 Regular

8415-00-NIB-0492—Size 48 X-Short

8415-00-NIB-0490—Size 44 X-Short

8415-01-536-4577—Size 40 X-Long

8415-01-536-4640—Size 48 Regular

8415-01-536-4682—Size 50 Regular

8415-01-536-4241—Size 38 Short

8415-01-536-4239—Size 38 X-Short

8415-01-536-4593—Size 46 Short

8415-01-536-4592—Size 44 X-Long

8415-01-536-4588—Size 50 X-Short

8415-01-536-4586—Size 44 Short

8415-01-536-4584—Size 42 Long

8415-01-536-4574—Size 40 Regular

8415-01-535-4170—Size 32 Short

8415-01-536-4712—Size 50 Long

8415-01-536-4639—Size 48 Short

8415-00-NIB-0494—Size 50 X-Long

8415-01-536-4651—Size 48 Long

8415-01-536-4367—Size 38 Regular

8415-01-536-4369—Size 38 Long

8415-01-536-4674—Size 50 Short

8415-01-536-4576—Size 40 Long

8415-01-536-4606—Size 46 X-Long

8415-00-NIB-0489—Size 32 X-Long

8415-01-536-4596—Size 46 Regular

8415-01-536-4600—Size 46 Long

8415-01-536-4197—Size 36 Short

8415-01-536-4573—Size 40 Short

8415-01-536-4581—Size 42 Short

8415-01-536-4178—Size 32 Regular

8415-01-536-4237—Size 36 X-Long

8415-01-536-4591—Size 44 Long

8415-01-536-4590—Size 44 Regular

8415-01-536-4180—Size 32 Long

8415-01-536-4189—Size 34 Long

8415-01-536-4134—Size 32 X-Short

8415-01-536-4184—Size 34 Short

8415-00-NIB-0491—Size 46 X-Short

8415-01-536-4572—Size 40 X-Short

8415-01-536-4571—Size 38 X-Long.

NPA: Winston-Salem Industries for the Blind, Winston-Salem, NC at its facility in Mayaguez, PR.

NPA: Blind Industries and Services of Maryland, Baltimore, MD at its facility in Salisbury, MD.

Contracting Activity: Defense Supply Center Philadelphia, Philadelphia, PA.

Product/NSNs: Coat, Airman's Battle Uniform, Women's, (ABU)

8410-01-536-3760—Size 6 Short

8410-01-536-3000—Size 6 X-Short

8410-01-536-2994—Size 4 Regular

8410-01-536-3763—Size 6 Regular

8410-01-536-2980—Size 4 X-Short

8410-01-536-2977—Size 2 Regular

8410-01-536-2974—Size 2 Short

8410-00-NIB-0005—Size 20 X-Short

8410-00-NIB-0003—Size 4 Long

8410-01-536-2982—Size 4 Short

8410-00-NIB-0002—Size 2 Long

8410-00-NIB-0004—Size 18 X-Short

8410-00-NIB-0006—Size 20 Short

8410-01-NIB-0007—Size 20 Long

8410-01-536-3825—Size 20 Regular

8410-01-536-3819—Size 18 Regular

8410-01-536-3822—Size 18 Long

8410-01-536-3816—Size 18 Short

8410-01-536-3814—Size 16 Long

8410-01-536-3812—Size 16 Regular

8410-01-536-3808—Size 16 Short

8410-01-536-3807—Size 16 X-Short

8410-01-536-3805—Size 14 Long

8410-01-536-3804—Size 14 Regular

8410-01-536-3803—Size 14 Short

8410-01-536-3800—Size 14 X-Short

8410-01-536-3799—Size 12 Long

8410-01-536-3797—Size 12 Regular

8410-01-536-3795—Size 12 Short

8410-01-536-3793—Size 12 X-Short

8410-01-536-3792—Size 10 Long

8410-01-536-3789—Size 10 Regular

8410-01-536-3787—Size 10 Short

8410-01-536-3784—Size 10 X-Short

8410-01-536-3782—Size 8 Long

8410-01-536-3779—Size 6 Long

8410-01-536-3776—Size 8 Regular

8410-01-536-3772—Size 8 Short

8410-01-536-3769—Size 8 X-Short.

NPA: Winston-Salem Industries for the Blind, Winston-Salem, NC at its facility in Mayaguez, PR.

NPA: Blind Industries and Services of Maryland, Baltimore, MD at its facility in Salisbury, MD.

Contracting Activity: Defense Supply Center Philadelphia, Philadelphia, PA.

Coverage: The requirement being proposed for addition to the Procurement List is a quantity of no more than 400,000 units of any combination of the above NSNs for Coat, Airman's Battle Uniform, Men's or Coat, Airman's Battle Uniform, Women's.

Product/NSNs: Trousers, Airman's Battle Uniform, Men's (ABU)

8415-01-536-4121—Size 46 Long

8415-01-536-4111—Size 46 Regular

8415-01-536-4103—Size 44 Short

8415-01-536-4102—Size 44 Regular

8415-01-536-4088—Size 42 Long

8415-01-536-4077—Size 42 Short

8415-01-536-4075—Size 40 X-Long

8415-01-536-4073—Size 40 Long

8415-01-536-4067—Size 40 Short

8415-01-536-4027—Size 38 X-Long

8415-01-536-3935—Size 38 Long

8415-01-536-3920—Size 38 Short

8415-01-536-3916—Size 38 X-Short

8415-01-536-3912—Size 36 X-Long

8415-01-536-3905—Size 36 Long

8415-01-536-3903—Size 36 Regular

8415-01-536-3893—Size 36 Short

8415-01-536-3890—Size 40 X-Short

8415-01-536-3874—Size 34 X-Long

8415-01-536-3869—Size 34 Long

8415-01-536-3855—Size 34 Regular

8415-01-536-3849—Size 34 Short

8415-01-536-3846—Size 34 X-Short

8415-01-536-3844—Size 32 X-Long

8415-01-536-3836—Size 32 Long

8415-01-536-3833—Size 32 Regular

8415-01-536-3830—Size 32 Short

8415-01-536-3880—Size 36 X-Short

8415-01-536-3826—Size 32 X-Short

8415-01-536-3823—Size 30 X-Long

8415-01-536-3821—Size 30 Long

8415-01-536-3817—Size 30 Regular

8415-01-536-3809—Size 30 X-Short

8415-01-536-3794—Size 30 Short

8415-01-536-3791—Size 28 X-Long

8415-01-536-3927—Size 38 Regular

8415-01-536-3777—Size 28 Long

8415-01-536-3774—Size 28 Regular

8415-01-536-3759—Size 28 Short

8415-01-536-4071—Size 40 Regular

8415-01-536-3758—Size 28 X-Short

8415-00-NIB-0502—Size 44 X-Long

8415-00-NIB-0501—Size 46 X-Long

8415-01-536-4081—Size 42 Regular

8415-00-NIB-0500—Size 46 Short

8415-00-NIB-0499—Size 46 X-Short

8415-00-NIB-0498—Size 44 Long

8415-00-NIB-0497—Size 44 X-Short

8415-00-NIB-0496—Size 42 X-Long

8415-00-NIB-0495—Size 42 X-Short.

NPA: Raleigh Lions Clinic for the Blind, Inc., Raleigh, NC.

NPA: LC Industries, Inc., Durham, NC at its facility in Louisville, KY.

Contracting Activity: Defense Supply Center Philadelphia, Philadelphia, PA.

Product/NSNs: Trousers, Airman's Battle Uniform, Women's, (ABU)

8410-01-536-2748—Size 12 Short

8410-01-536-2746—Size 12 X-Short

8410-01-536-2744—Size 10 Long

8410-01-536-2740—Size 10 Short

8410-01-536-2739—Size 10 X-Short

8410-01-536-2736—Size 8 Long

8410-01-536-2725—Size 8 Short

8410-01-536-2723—Size 8 X-Short

8410-01-536-2721—Size 6 Long

8410-01-536-2720—Size 6 Regular

8410-01-536-2719—Size 6 Short

8410-01-536-2718—Size 6 X-Short

8410-01-536-2715—Size 4 Regular

8410-01-536-2714—Size 4 X-Short

8410-01-536-2711—Size 2 Regular

8410-01-536-2709—Size 2 Short

8410-00-NIB-0017—Size 22 Short

8410-01-536-2734—Size 8 Regular

8410-00-NIB-0016—Size 22 X-Short

8410-00-NIB-0015—Size 4 Long

8410-00-NIB-0012—Size 20 Short

8410-01-536-2742—Size 10 Regular

8410-00-NIB-0011—Size 20 X-Short

8410-00-NIB-0010—Size 18 X-Short

8410-00-NIB-0009—Size 2 Long

8410-01-536-2749—Size 12 Regular

8410-00-NIB-0008—Size 2 X-Short

8410-01-NIB-0014—Size 22 Long

8410-01-536-2785—Size 22 Regular

8410-01-536-2783—Size 20 Long

8410-01-536-2780—Size 20 Regular

8410-01-536-2778—Size 18 Long

8410-01-536-2774—Size 18 Regular

8410-01-536-2773—Size 18 Short

8410-01-536-2771—Size 16 Long

8410-01-536-2770—Size 16 Regular

8410-01-536-2766—Size 16 Short

8410-01-536-2765—Size 16 X-Short

8410-01-536-2761—Size 14 Long

8410-01-536-2760—Size 14 Regular

8410-01-536-2756—Size 14 Short

8410-01-536-2801—Size 4 Short

8410-01-536-2754—Size 14 X-Short

8410-01-536-2752—Size 12 Long.

NPA: Raleigh Lions Clinic for the Blind, Inc., Raleigh, NC.

NPA: LC Industries, Inc., Durham, NC at its facility in Louisville, KY.

Contracting Activity: Defense Supply Center Philadelphia, Philadelphia, PA.

Coverage: The requirement being proposed for addition to the Procurement List is a quantity of no more than 325,000 units of any combination of the above NSNs for Trousers, Airman's Battle Uniform, Men's or Trousers, Airman's Battle Uniform, Women's.

Service

Service Type/Location: Administrative Support,

USDA Forest Service,

4931 Broad River Road,

Columbia, South Carolina.

NPA: Goodworks Service Corporation, Greenville, South Carolina.

Contracting Activity: USDA, Forest Service, Region 8, Columbia, South Carolina.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Inking Pad,

7510-01-431-6516.

NPA: Cattaraugus County Chapter, NYSARC, Olean, NY.

Contracting Activity: Office Supplies & Paper Products Acquisition Center, New York, NY.

Product/NSN: Plate, Marking, Blank,

9905-00-473-6336.

NPA: UNKNOWN.

Contracting Activity: GSA, Southwest Supply Center, Fort Worth, Texas.

Product/NSN: Apron, Food Handler's,

8415-00-255-8577.

NPA: Arizona Industries for the Blind, Phoenix, Arizona.

NPA: Alabama Industries for the Blind, Talladega, Alabama.

Contracting Activity: GSA, Southwest Supply Center, Fort Worth, Texas.

Product/NSNs: Binder, Note Pad,

7510-00-NIB-0196,

7510-00-NIB-0197.

NPA: New York City Industries for the Blind, Inc., Brooklyn, NY.

NPA: ForSight Vision, York, Pennsylvania.

Contracting Activity: Office Supplies & Paper Products Acquisition Center, New York, NY.

Product/NSNs: File, Combination Desk,

7520-01-452-1565—File, Horizontal Desk.

NPA: Occupational Development Center, Inc., Thief River Falls, MN.

Contracting Activity: Office Supplies & Paper Products Acquisition Center, New York, NY.

Product/NSNs: Folder, File, Military Personnel Records Jacket,

7530-DA Form 201.

NPA: L.C. Industries for the Blind, Inc., Durham, North Carolina.

Contracting Activity: TAGCEN, Washington, Department of the Army, Washington, DC.

Product/NSNs: Igniter Assembly, Empty,

1330-01-M00-0103.

NPA: None Authorized.

Contracting Activity: Pine Bluff Arsenal, Pine Bluff, Arkansas.

Product/NSNs: Mattress Rehab, Grade C Reg Bed

7699 27 X 73 C

7699 38 X 75 C

7699 33 X 75 C

7699 26 X 76 C

7699 30 X 76 C

7699 34 X 76 C

7699 31 X 78 C

7699 36 X 78 C

7699 26 X 721/2 C.

NPA: Georgia Industries for the Blind, Bainbridge, Georgia.

NPA: Mississippi Industries for the Blind, Jackson, Mississippi.

NPA: Winston-Salem Industries for the Blind, Winston-Salem, NC.

NPA: Virginia Industries for the Blind, Charlottesville, VA.

NPA: L.C. Industries for the Blind, Inc., Durham, North Carolina.

Contracting Activity: GSA, Southwest Supply Center, Fort Worth, TX.

Product/NSNs: Mattress, Plastic Coated Innerspring

7210-00-995-1093

7210-00-682-7146

7210-00-529-3709

7210-01-138-8177

NPA: Georgia Industries for the Blind, Bainbridge, Georgia.

NPA: Mississippi Industries for the Blind, Jackson, Mississippi.

NPA: Winston-Salem Industries for the Blind, Winston-Salem, North Carolina.

NPA: Virginia Industries for the Blind, Charlottesville, Virginia.

NPA: Lions Volunteer Blind Industries, Inc., Morristown, Tennessee.

Contracting Activity: Veteran's Affairs National Acquisition Center, Hines, IL.

Product/NSNs: Sponge, Surgical

6510-00-988-3838

6510-00-559-3219

6510-00-119-9314

NPA: None Authorized.

Contracting Activity: Department of Veterans Affairs, Washington, DC.

Product/NSN: Trap, Animal,

3740-00-531-3905.

NPA: ACT CORP., Daytona Beach, Florida.

Contracting Activity: GSA, Southwest Supply Center, Fort Worth, Texas.

Sheryl D. Kennerly,
Director, Information Management.

[FR Doc. E6-10289 Filed 6-29-06; 8:45 am]

BILLING CODE 6353-01-P